DEPARTMENT OF HOMELAND SECURITY

U.S. Customs and Border Protection

Approval of Los Angeles Bunker Surveyors, Inc., as a Commercial Gauger

AGENCY: U.S. Customs and Border Protection, Department of Homeland Security.

ACTION: Notice of approval of Los Angeles Bunker Surveyors, Inc., as a commercial gauger.

SUMMARY: Notice is hereby given, pursuant to CBP regulations, that Los Angeles Bunker Surveyors, Inc., has been approved to gauge petroleum and certain petroleum products for customs purposes for the next three years as of July 30, 2013.

DATES: The approval of Los Angeles Bunker Surveyors, Inc., as commercial gauger became effective on July 30, 2013. The next triennial inspection date will be scheduled for July 2016.

FOR FURTHER INFORMATION CONTACT: Approved Gauger and Accredited Laboratories Manager, Laboratories and Scientific Services, U.S. Customs and Border Protection, 1300 Pennsylvania Avenue NW., Suite 1500N, Washington, DC 20229, tel. 202-344-1060.

SUPPLEMENTARY INFORMATION: Notice is hereby given pursuant to 19 CFR 151.13, that Los Angeles Bunker Surveyors, Inc., 214 North Marine Ave, Wilmington, CA 90744, has been approved to gauge petroleum and certain petroleum products for customs purposes, in accordance with the provisions of 19 CFR 151.13. Los Angeles Bunker Surveyors, Inc. is approved for the following gauging procedures for petroleum and certain petroleum products from the American Petroleum Institute (API):

API Chapters | Title
7 | Temperature determination.
11 | Physical Properties.
12 | Calculations.
17 | Maritime measurement.

Anyone wishing to employ this entity to conduct gauger services should request and receive written assurances from the entity that it is accredited or approved by the U.S. Customs and Border Protection to conduct the specific gauger service requested. Alternatively, inquiries regarding the specific gauger service this entity is approved to perform may be directed to the U.S. Customs and Border Protection by calling (202) 344-1060. The inquiry may also be sent to cbp.labhq@dhs.gov. Please reference the Web site listed below for a complete listing of CBP approved gaugers and accredited laboratories. http://www.cbp.gov/about/labs-scientific/commercial-gaugers-and-laboratories.

Dated: April 30, 2014.
Ira S. Reese,
Executive Director, Laboratories and Scientific Services.

[FR Doc. 2014-10627 Filed 5-7-14; 8:45 am]

BILLING CODE 9111-14-P